DEPARTMENT OF LABOR

Employment and Training Administration

[TA-W-53,091]

Standard Textile Company, Inc., Enterprise, Alabama; Notice of Termination of Investigation

Pursuant to section 221 of the Trade Act of 1974, as amended, an investigation was initiated on October 1, 2003, in response to a worker petition filed by a company official on behalf of workers at Standard Textile Company, Inc., Enterprise, Alabama.

The petitioning group of workers is covered by an earlier petition filed on September 25, 2003 (TA-W-52,989), that is the subject of an ongoing investigation for which a determination has not yet been issued. Further investigation in this case would duplicate efforts and serve no purpose; therefore the investigation under this petition has been terminated.

Signed at Washington, DC, this 7th day of October, 2003.
Elliott S. Kushner,
Certifying Officer, Division of Trade Adjustment Assistance.

[FR Doc. 03-29126 Filed 11-20-03; 8:45 am]

BILLING CODE 4510-30-P